SMALL BUSINESS ADMINISTRATION

[Disaster Declaration #20676 and #20677; CONFEDERATED TRIBES AND BANDS OF THE YAKAMA NATION Disaster Number WA-20012]

Presidential Declaration of a Major Disaster for Public Assistance Only for the Confederated Tribes and Bands of the Yakama Nation

AGENCY: U.S. Small Business Administration.

ACTION: Notice.

SUMMARY: This is a Notice of the Presidential declaration of a major disaster for Public Assistance Only for the Confederated Tribes and Bands of the Yakama Nation (FEMA-4823-DR), dated September 24, 2024.

DATES: Issued on September 24, 2024.

Physical Loan Application Deadline Date: November 25, 2024.

Economic Injury (EIDL) Loan Application Deadline Date: June 24, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on September 24, 2024, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

Incident: Wildfires.

Incident Period: June 22, 2024 through July 8, 2024.

The following areas have been determined to be adversely affected by the disaster:

Primary Area: Confederated Tribes and Bands of the Yakama Nation.

The Interest Rates are:

| Percent
For Physical Damage:
Non-Profit Organizations with Credit Available Elsewhere | 3.250
Non-Profit Organizations without Credit Available Elsewhere | 3.250
For Economic Injury:
Non-Profit Organizations without Credit Available Elsewhere | 3.250

The number assigned to this disaster for physical damage is 206765 and for economic injury is 206770.

(Catalog of Federal Domestic Assistance Number 59008)

Francisco Sánchez, Jr.,
Associate Administrator, Office of Disaster Recovery & Resilience.

[FR Doc. 2024-22579 Filed 10-1-24; 8:45 am]

BILLING CODE 8026-09-P